Title 3—

The President

Proclamation 7332 of August 1, 2000

Helsinki Human Rights Day, 2000

By the President of the United States of America

A Proclamation

Twenty-five years ago today, in a world marked by brutal divisions and ideological conflict, the United States joined 33 European nations and Canada in signing the Helsinki Final Act. That watershed event established the Conference on Security and Cooperation in Europe (CSCE) and affirmed an international commitment to respect “freedom of thought, conscience, religion or belief, for all without distinction as to race, sex, language, or religion.”

During the Cold War, the Helsinki Principles were the rallying point for courageous men and women who confronted tyranny—often at great personal risk—to win the fundamental freedoms set forth by the Final Act. Today, citizens of our vast Euro-Atlantic community from Vancouver to Vladivostok live by, or aspire to live, by those fundamental freedoms. The Helsinki Final Act has been instrumental in the progress we have made together toward building a Europe that is whole and free; a Europe where our partnership for peace is overcoming the possibility of war. The Helsinki Final Act continues to shape our vision for the future of transatlantic cooperation, and the Helsinki accords remain the basic definition of common goals and standards for how all countries in the new Europe should treat their citizens and one another.

The evolution of the CSCE into the Organization for Security and Cooperation in Europe (OSCE) reflects the changing face of Europe. The OSCE's integrated structure of commitments in the areas of human rights, economics, arms control, and conflict resolution provides a defining framework for a free and undivided Europe. The United States will continue to promote the OSCE's efforts to build security within and cooperation among democratic societies; to defuse conflicts; to battle corruption and organized crime; and to champion human rights, fundamental freedoms, and the rule of law throughout the Euro-Atlantic community. We remain committed to the OSCE's essential work of bringing peace and civil society back to Bosnia and Kosovo, and we are grateful to the many dedicated men and women engaged in the OSCE's field missions, who in many ways are our front line of conflict prevention in Europe.

Today, as we mark the 25th anniversary of the Helsinki Final Act, the United States takes pride in remembering our role as one of its original signatories—a ringing call for freedom and human dignity that played a decisive role in lifting the Iron Curtain and ending the tragic division of Europe.

NOW, THEREFORE, I, WILLIAM J. CLINTON, President of the United States of America, by virtue of the authority vested in me by the Constitution and laws of the United States, do hereby proclaim August 1, 2000, as Helsinki Human Rights Day and reaffirm our Nation's support for the full implementation of the Helsinki Final Act. I urge the American people to observe this anniversary with appropriate programs, ceremonies, and activities that reflect our dedication to the noble principles of human rights and democracy. I also call upon the governments and peoples of all other signatory states to renew their commitment to comply with the principles established and consecrated in the Helsinki Final Act.

IN WITNESS WHEREOF, I have hereunto set my hand this first day of August, in the year of our Lord two thousand, and of the Independence of the United States of America the two hundred and twenty-fifth.

wj

[FR Doc. 00-19939

Filed 8-2-00; 8:45 am]

Billing code 3195-01-P